DEPARTMENT OF TRANSPORTATION

Pipeline and Hazardous Materials Safety Administration

Office of Hazardous Materials Safety; Notice of Applications for Modification of Special Permit

AGENCY: Pipeline and Hazardous Materials Safety Administration (PHMSA), DOT.

ACTION: List of applications for modification of special permit.

SUMMARY: In accordance with the procedures governing the application for, and the processing of, special permits from the Department of Transportation's Hazardous Material Regulations (49 CFR Part 107, Subpart B), notice is hereby given that the Office of Hazardous Materials Safety has received the application described herein. This notice is abbreviated to expedite docketing and public notice. Because the sections affected, modes of transportation, and the nature of application have been shown in earlier Federal Register publications, they are not repeated here. Request of modifications of special permits (e.g. to provide for additional hazardous materials, packaging design changes, additional mode of transportation, etc.) are described in footnotes to the application number. Application numbers with the suffix “M” denote a modification request. There applications have been separated from the new application for special permits to facilitate processing.

DATES: Comments must be received on or before August 6, 2007.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, Nassif Building, 400 7th Street SW., Washington, DC or at http://dms.dot.gov.

This notice of receipt of applications for modification of special permit is published in accordance with Part 107 of the Federal hazardous materials transportation law (49 U.S.C. 5117(b); 49 CFR 1.53(b)).

Issued in Washington, DC, on July 9, 2007.
Delmer Billings,
Director, Special Permits & Approvals Programs, Office of Hazardous Materials, Special Permits & Approvals.

Modification Special Permits
Application No. | Docket number | Applicant | Regulation(s) affected | Nature of special permit thereof
5022-M |  | Alliant Techsystems, Inc., Elkton, MD | 49 CFR 174.101(L); 174.104(d); 174.112(a); 177.834(1)(1) | To modify the special permit to authorize the transportation in commerce of additional Division 1.2 hazardous materials.
7657-M |  | Welker Engineering Company, Sugar Land, TX | 49 CFR 173.302(a)(1); 173.304(a)(1); 173.304(b)(1); 175.3; 173.201; 173.202; 173.203 | To modify the special permit to authorize the transportation in commerce of additional Division 2.1 gases and to authorize a change in the material of construction.
10964-M |  | Kidde Aerospace & Defense | 49 CFR | To modify the special permit to authorize
11054-M |  | Welker Engineering Company, Sugar Land, TX | 49 CFR 178.36 Subpart C | To modify the special permit to authorize a change in the material of construction.
11592-M |  | Amtrol Inc., West Warwick, RI | 49 CFR 173.306(g) | To modify the special permit to authorize the transportation in commerce of additional Division 2.2 gases.
12412-M | 1999-5797 | Cincinnati Pool Management, Inc., West Chester, OH | 49 CFR 177.834(h); 172.203(a); 172.302(c) | To modify the special permit to allow for filling of an IBC without removing it from the motor vehicle on which it is transported while on private property.
12531-M |  | Worthington Cylinder Corporation, Columbus, OH | 49 CFR 173.302(a); 173.304(a); 173.304(d); 178.61(b); 178.61(f); 178.61(g); 178.61(g); 178.61(i); 178.61(k) | To modify the special permit to authorize additional packing groups for already authorized hazardous materials.
13027-M |  | Hernco Fabrication & Services, Midland, TX | 49 CFR 173.241; 173.242 | To modify the special permit to authorize the transportation in commerce of additional Division 3 and 8 hazardous materials in non-DOT specification portable tanks.
14466-M |  | Alaska Pacific Powder Company, Anchorage, AK | 49 CFR 172.101 Column (9B) | To modify the special permit to allow the transportation in commerce of additional Class 1 explosive materials which are forbidden for transportation by air, to be transported by cargo aircraft within the State of Alaska when other means of transportation are impracticable or not available.

[FR Doc. 07-3541 Filed 7-19-07; 8:45 am]

BILLING CODE 4909-60-M